DEPARTMENT OF COMMERCE

National Institute of Standards and Technology

Announcement of Meeting to Explore Feasibility of Establishing a NIST/Industry Consortium on Characterization and Modeling of the Surface/Interface of Polymeric Materials and Systems

AGENCY: National Institute of Standards and Technology, Commerce.

ACTION: Notice of Public Meeting.

SUMMARY: The National Institute of Standards and Technology (NIST) invites interested parties to attend a pre-consortium meeting on June 13, 2008 to be held on the NIST campus. The goal of the one-day meeting is to evaluate industry interest in creating a NIST/industry consortium focused on the characterization and modeling of the surface and interface of polymeric materials and composites.

DATES: The meeting will take place on Friday, June 13, 2008 from 9 a.m. to 12 p.m.

ADDRESSES: The meeting will be held in Building 226 room A368 on the NIST Gaithersburg campus, 100 Bureau Drive, Gaithersburg, MD 20899. Please note admittance instructions under the SUPPLEMENTARY INFORMATION section of this notice.

FOR FURTHER INFORMATION CONTACT: Aaron M. Forster, Chris A. Michaels, or Lipiin Sung; National Institute of Standards and Technology, 100 Bureau Drive, Stop 8615, Gaithersburg, MD 20899-8615, USA; Telephone: (301) 975-8701; Fax (301) 990-6891; E-mail: aaron.forster@nist.gov, chris.michaels@nist.gov, lipiin.sung@nist.gov.

SUPPLEMENTARY INFORMATION: The National Institute of Standards and Technology (NIST) invites interested parties to attend a pre-consortium meeting on June 13, 2008 to be held on the NIST campus. The goal of the one-day meeting is to evaluate industry interest in creating a NIST/industry consortium focused on the characterization and modeling of the surface and interface of polymeric materials and composites. The goals of such a consortium would include the development of measurement science to evaluate performance and optical properties of polymeric materials utilizing techniques to measure surface mechanical properties, scratch and mar resistance, and fracture at interfaces. The consortium would be administered by NIST. Consortium research and development would be conducted by NIST staff members along with at least one technical representative from each participating member company. Membership fees for participation in the consortium will be Twenty-five Thousand ($25,000) per year. The initial term of the consortium is intended to be three years.

All visitors to the NIST site are required to pre-register to be admitted. Anyone wishing to attend this meeting must register by close of business Thursday, June 12, 2008, in order to attend. Please submit your name, time of arrival, e-mail address and phone number to Aaron Forster and he will provide you with instructions for admittance. Non-U.S. citizens must also submit their country of citizenship, title, employer/sponsor, and address. Aaron Forster's e-mail address is aaron.forster@nist.gov and his phone number is (301) 975-8701.

Dated: May 23, 2008.
Richard F. Kayser,
Chief Scientist.

[FR Doc. E8-12362 Filed 6-2-08; 8:45 am]

BILLING CODE 3510-13-P